DEPARTMENT OF THE INTERIOR

Bureau of Land Management

[CO-200-7122-EA]

Notice of Intent To Prepare an Environmental Impact Statement for the “Over The River” Art Project in Colorado

AGENCY: Bureau of Land Management, Interior.

ACTION: Notice of Intent to prepare an Environmental Impact Statement (EIS) and notice of public scoping.

SUMMARY: Pursuant to section 102(2)(C) of the National Environmental Policy Act of 1969 and in response to an application filed by the artists Christo and Jeanne-Claude, the Bureau of Land Management (BLM), Royal Gorge Field Office, announces its intention to prepare an EIS and conduct public scoping. The artists propose to hang fabric panels over a portion of the Arkansas River as an artistic exhibition. The reason for preparing an EIS is based upon several factors, including a specific request from the applicants; the increasing complexity of the project; the level of controversy related to the project; and the level of involvement during the scoping process.

DATES: Public scoping is ongoing due to an Environmental Assessment that was started on the proposed art project. The BLM hosted three public meetings in January in Canon City, Cotopaxi, and Salida, with over 700 people attending. The meetings were in an “open house” format and allowed the BLM, the artists, and other agencies with management interests to answer questions, explain project details, and gather information from interested individuals and groups. Over 1,100 public scoping comments have already been submitted. The scoping period will be extended for 30 days after publication of this notice.

ADDRESSES: Please submit written comments to the Bureau of Land Management, Royal Gorge Field Office, Attn: Over The River, 3170 East Main Street, Canon City, CO 81212. Comments can also be submitted by FAX to (719) 269-8599. Electronic mail may be sent to: rgfo_comments@blm.gov. Please write “Over The River” in the subject line. Your responses are important and will be considered in the environmental analysis process. If you do respond, we will keep you informed of the decision resulting from this analysis. Public comments, including names and addresses of respondents, will be available for public review at the Bureau of Land Management, Royal Gorge Field Office, 3170 East Main Street, Canon City, CO during regular business hours (8 a.m. to 4:30 p.m). Individual respondents may request confidentiality. If you wish to withhold your name, e-mail address, or street address from public review or from disclosure under the Freedom of Information Act, you must state this plainly at the beginning of your written comment. Such requests will be honored to the extent allowed by law. We will not, however, consider anonymous comments. All submissions from organizations or businesses, and from individuals identifying themselves as representatives or officials of organizations or businesses, are available for public inspection in their entirety.

FOR FURTHER INFORMATION CONTACT: Roy L. Masinton, Field Manager, at the Royal Gorge Field Office address listed above, or Pete Zwaneveld, Environmental Coordinator. Both can be reached by calling (719) 269-8500. Mr. Zwaneveld can also be reached via e-mail at rgfo_comments@blm.gov.

SUPPLEMENTARY INFORMATION: The artists Christo and Jeanne-Claude have submitted an application for an art project on the Arkansas River entitled “Over The River” (OTR). They propose to hang fabric panels over about 7 miles of a 45 mile stretch of the river, west of Canon City, Colorado. The translucent fabric panels would be attached to approximately 1,000 cables stretched across the river; they would cover the river but not the side slopes; hang from 10 to 24 feet above the water; be strong enough to withstand high winds; be porous enough to let rainwater pass through; and be displayed for a two-week period in early August. The earliest that the project would be exhibited is in 2010. During the two-week project, an estimated 250,000 visitors are expected to visit the Arkansas River to view the art. All recoverable materials would be recycled after the project.

On August 2, 2005, following several years of inactivity, the BLM, Royal Gorge Field Office and Colorado State Parks representatives met with Christo and Jeanne-Claude, to determine where the proposal is in the NEPA/approval process and to establish a logical timeline. BLM will review the contractor prepared EIS. If the proposal is approved, Colorado State Parks will issue a permit under the Cooperative Management Agreement between the agencies for the Arkansas Headwaters Recreation Area. The artists have and will continue to cover all of BLM's costs associated with this project (100% cost recovery). Oversight of the project is through a Permit Planning Team, consisting of Federal, state and local agencies that will review the permit request. Other agencies and entities participating in the project review include: CO State Parks, CO Dept. of Transportation, CO State Patrol, CO Division of Wildlife, Army Corps of Engineers, Fremont County Commissioners and Sheriff, Chaffee County Commissioners and Sheriff, and the cities of Canon City and Salida.

Through public scoping, the BLM expects to identify various issues and concerns, potential impacts and mitigation measures, and alternatives to the proposed action. At present, the BLM has identified the following issues and concerns: Impacts on the environment, particularly on wildlife, including but not limited to bighorn sheep, bald eagles and waterfowl; socio-economic impacts on local citizen's travel and commercial trucks from restrictions as a result of heavy tourist traffic; safety of those people traveling Highway 50 and using the Arkansas River for boating, fishing and viewing the project; and the response time of emergency service vehicles such as police, fire, search and rescue and ambulance due to heavy traffic.

The BLM will analyze the proposed action and no action alternatives, as well as other possible alternatives. Your comments concerning the OTR project as proposed and feasible alternatives, possible mitigation measures, and any other information relevant to the project are encouraged.

Sally Wisely,
Colorado State Director.

[FR Doc. E6-9529 Filed 6-16-06; 8:45 am]

BILLING CODE 4310-JB-P